DEPARTMENT OF HOMELAND SECURITY

Federal Emergency Management Agency

44 CFR Part 64

[Docket ID FEMA-2008-0020; Internal Agency Docket No. FEMA-8087]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region III
Virginia:
Colonial Beach, Town of, Westmoreland County | 510172 | March 5, 1975, Emerg; September 18, 1987, Reg; August 18, 2009, Susp | August 18, 2009 | August 18, 2009.
Westmoreland County, Unincorporated Areas | 510250 | September 23, 1974, Emerg; September 18, 1987, Reg; August 18, 2009, Susp | ......*do | Do.
Region IV
Alabama:
Barbour County, Unincorporated Areas | 010315 | January 20, 1976, Emerg; January 1, 1987, Reg; August 18, 2009, Susp | ......do | Do.
Blue Springs, Town of, Barbour County | 010224 | November 3, 1975, Emerg; September 1, 1986, Reg; August 18, 2009, Susp | ......do | Do.
Brent, Town of, Bibb County | 010012 | November 1, 1974, Emerg; September 4, 1985, Reg; August 18, 2009, Susp | ......do | Do.
Centreville, City of, Bibb County | 010369 | May 28, 1975, Emerg; August 19, 1985, Reg; August 18, 2009, Susp | ......do | Do.
Clayton, Town of, Barbour County | 010377 | April 11, 1990, Emerg; May 1, 1994, Reg; August 18, 2009, Susp | ......do | Do.
Clio, Town of, Barbour County | 010223 | December 30, 1975, Emerg; July 18, 1985, Reg; August 18, 2009, Susp | ......do | Do.
Double Springs, Town of, Winston County | 010350 | February 8, 1991, Emerg; September 1, 1991, Reg; August 18, 2009, Susp | ......do | Do.
Eufaula, City of, Barbour County | 010011 | April 10, 1975, Emerg; January 15, 1988, Reg; August 18, 2009, Susp | ......do | Do.
Haleyville, City of, Winston County | 010303 | October 23, 1975, Emerg; June 25, 1976, Reg; August 18, 2009, Susp | ......do | Do.
Louisville, Town of, Barbour County | 010225 | November 25, 1975, Emerg; September 1, 1987, Reg; August 18, 2009, Susp | ......do | Do.
West Blockton, Town of, Bibb County | 010014 | October 24, 1974, Emerg; September 18, 1985, Reg; August 18, 2009, Susp | ......do | Do.
Winston County, Unincorporated Areas | 010304 | January 14, 1991, Emerg; September 1, 1991, Reg; August 18, 2009, Susp | ......do | Do.
Florida:
Kenneth, City of, Pinellas County | 120245 | August 6, 1974, Emerg; January 16, 1981, Reg; August 18, 2009, Susp | ......do | Do.
Leon County, Unincorporated Areas | 120143 | June 4, 1973, Emerg; March 3, 2000, Reg; August 18, 2009, Susp | ......do | Do.
Pinellas Park, City of, Pinellas County | 120251 | October 8, 1971, Emerg; August 15, 1977, Reg; August 18, 2009, Susp | ......do | Do.
Tallahassee, City of, Leon County | 120144 | March 10, 1972, Emerg; December 6, 1976, Reg; August 18, 2009, Susp | ......do | Do.
Georgia:
Baker County, Unincorporated Areas | 130270 | August 18, 1994, Emerg; June 19, 1997, Reg; August 18, 2009, Susp | ......do | Do.
Butts County, Unincorporated Areas | 130518 | January 24, 1995, Emerg; March 18, 1996, Reg; August 18, 2009, Susp | ......do | Do.
Cairo, City of, Grady County | 130097 | May 30, 1975, Emerg; September 1, 1986, Reg; August 18, 2009, Susp | ......do | Do.
Colquitt, City of, Miller County | 130135 | July 22, 1992, Emerg; April 1, 1993, Reg; August 18, 2009, Susp | ......do | Do.
Flovilla, City of, Butts County | 130283 | July 13, 1976, Emerg; September 29, 1986, Reg; August 18, 2009, Susp | ......do | Do.
Grady County, Unincorporated Areas | 130096 | October 20, 1994, Emerg; April 1, 1996, Reg; August 18, 2009, Susp | ......do | Do.
Ideal, City of, Grady County | 130520 | February 1, 1995, Emerg; April 3, 1996, Reg; August 18, 2009, Susp
Jackson, City of, Butts County | 130222 | July 8, 1975, Emerg; September 29, 1986, Reg; August 18, 2009, Susp | ......do | Do.
Jenkinsburg, Town of, Butts County | 130525 | January 3, 2001, Emerg; NA, Reg; August 18, 2009, Susp | ......do | Do.
Macon County, Unincorporated Areas | 130506 | September 22, 1994, Emerg; April 3, 1996, Reg; August 18, 2009, Susp | ......do | Do.
Marshallville, Town of, Macon County | 130536 | NA, Emerg; March 19, 1999, Reg; August 18, 2009, Susp | ......do | Do.
Miller County, Unincorporated Areas | 130134 | November 29, 1994, Emerg; NA, Reg; August 18, 2009, Susp | ......do | Do.
Montezuma, City of, Macon County | 130136 | February 21, 1975, Emerg; August 1, 1986, Reg; August 18, 2009, Susp | ......do | Do.
Newton, City of, Baker County | 130004 | May 29, 1975, Emerg; September 1, 1986, Reg; August 18, 2009, Susp | ......do | Do.
Oglethorpe, City of, Macon County | 130133 | February 22, 1975, Emerg; September 29, 1986, Reg; August 18, 2009, Susp | ......do | Do.
Unified Government of, Webster County | 135268 | February 27, 2006, Emerg; NA, Reg; August 18, 2009, Susp | ......do | Do.
North Carolina:
Mount Airy, City of, Surry County | 370226 | May 28, 1975, Emerg; December 1, 1981, Reg; August 18, 2009, Susp | ......do | Do.
Surry County, Unincorporated Areas | 370364 | November 9, 1979, Emerg; December 1, 1981, Reg; August 18, 2009, Susp | ......do | Do.
Region V
Illinois:
Bluffs, Village of, Scott County | 170608 | April 28, 1983, Emerg; April 28, 1983, Reg; August 18, 2009, Susp | ......do | Do.
Meredosia, Village of, Morgan County | 170517 | March 13, 1974, Emerg; April 15, 1982, Reg; August 18, 2009, Susp | ......do | Do.
Morgan County, Unincorporated Areas | 170903 | April 4, 1979, Emerg; January 17, 1986, Reg; August 18, 2009, Susp | ......do | Do.
Ohio:
Ashland County, Unincorporated Areas | 390759 | April 20, 1982, Emerg; January 1, 1988, Reg; August 18, 2009, Susp | ......do | Do.
Creston, Village of, Wayne County | 390575 | NA, Emerg; October 17, 1994, Reg; August 18, 2009, Susp | ......do | Do.
Perrysville, Village of, Ashland County | 390730 | April 6, 1976, Emerg; August 1, 1987, Reg; August 18, 2009, Susp | ......do | Do.
Streetsboro, City of, Portage County | 390797 | April 16, 1976, Emerg; December 18, 1984, Reg; August 18, 2009, Susp | ......do | Do.
Windham, Village of, Portage County | 390459 | October 14, 1976, Emerg; December 14, 1979, Reg; August 18, 2009, Susp | ......do | Do.
Wisconsin:
Bellevue, Village of, Brown County | 550627 | NA, Emerg; February 9, 2005, Reg; August 18, 2009, Susp | ......do | Do.
Brown County, Unincorporated Areas | 550020 | March 10, 1972, Emerg; April 17, 1978, Reg; August 18, 2009, Susp | ......do | Do.
De Pere, City of, Brown County | 550021 | June 12, 1975, Emerg; July 2, 1981, Reg; August 18, 2009, Susp | ......do | Do.
Green Bay, City of, Brown County | 550022 | August 30, 1974, Emerg; September 30, 1977, Reg; August 18, 2009, Susp | ......do | Do.
Pulaski, Village of, Brown County | 550024 | February 27, 1976, Emerg; August 3, 1981, Reg; August 18, 2009, Susp | ......do | Do.
Region VII
Kansas:
Basehor, City of, Leavenworth County | 200187 | August 6, 1975, Emerg; December 7, 1984, Reg; August 18, 2009, Susp | ......do | Do.
Leavenworth, City of, Leavenworth County | 200190 | May 1, 1973, Emerg; January 5, 1978, Reg; August 18, 2009, Susp | ......do | Do.
*do = Ditto.
Code for reading third column: Emerg.—Emergency; Reg.—Regular; Susp.—Suspension.

Dated: August 11, 2009.
Deborah Ingram,
Acting Deputy Assistant Administrator for Mitigation, Mitigation Directorate.

[FR Doc. E9-19540 Filed 8-13-09; 8:45 am]

BILLING CODE 9110-12-P